DEPARTMENT OF COMMERCE

National Oceanic and Atmospheric Administration

RIN 0648-XS81

Marine Mammals; File No. 14296

AGENCY: National Marine Fisheries Service (NMFS), National Oceanic and Atmospheric Administration (NOAA), Commerce.

ACTION: Notice; issuance of permit amendment.

SUMMARY: Notice is hereby given that Briana Witteveen, Ph.D., University of Alaska Fairbanks, School of Fisheries and Ocean Sciences, 118 Trident Way, Kodiak, AK 99615, has been issued a minor amendment to Scientific Research Permit No. 14296-01.

ADDRESSES: The amendment and related documents are available for review upon written request or by appointment in the Permits and Conservation Division, Office of Protected Resources, NMFS, 1315 East-West Highway, Room 13705, Silver Spring, MD 20910; phone (301) 427-8401; fax (301) 713-0376.

FOR FURTHER INFORMATION CONTACT: Courtney Smith or Amy Sloan, (301) 427-8401.

SUPPLEMENTARY INFORMATION: The requested amendment has been granted under the authority of the Marine Mammal Protection Act of 1972, as amended (16 U.S.C. 1361 et seq.) and the regulations governing the taking and importing of marine mammals (50 CFR part 216), the Endangered Species Act of 1973, as amended (ESA; 16 U.S.C. 1531 et seq.), and the regulations governing the taking, importing, and exporting of endangered and threatened species (50 CFR parts 222-226).

The original permit (No. 14296), issued on July 14, 2010 (74 FR 58243) through July 31, 2015 authorized scientific research on cetaceans year-round in the Gulf of Alaska, with an emphasis on examining prey use and foraging patterns of gray (Eschrichtius robustus), fin (Balaenoptera physalus), humpback (Megaptera novaengliae), and killer (Orcinus orca) whales and exploring the responses of humpback whales to acoustic deterrent devices. Takes may occur by close approach to collect photographs, recordings of vocalizations, biopsy samples, prey parts, sloughed skin, to attach suction cup tags, and to document response to acoustic deterrents. Sei (Balaenoptera borealis), blue (Balaenoptera musculus), minke (Balaenoptera acutorostrata), sperm (Physeter microcephalus), and North Pacific right whales (Eubalaena japonica) may be taken by close approach to collect photographs and biopsy samples. Other species of marine mammals might be incidentally harassed during research activities. A minor amendment to the permit (No. 14296-01) was issued on June 19, 2012 to allow researchers to attach tags using a carbon fiber wind surfing mast (i.e., a pole).

The current minor amendment (No. 14296-02) extends the duration of the permit through July 31, 2016, but does not change any other terms or conditions of the permit.

Dated: July 9, 2015.
Julia Harrison,
Chief, Permits and Conservation Division, Office of Protected Resources, National Marine Fisheries Service.

[FR Doc. 2015-18454 Filed 7-27-15; 8:45 am]

BILLING CODE 3510-22-P